DEPARTMENT OF TRANSPORTATION

Research and Special Programs Administration

Notice of Meeting

AGENCY: Research and Special Programs Administration (RSPA), DOT.

ACTION: Notice; Pipeline Safety: Final Project Review Meeting.

SUMMARY: RSPA's Office of Pipeline Safety (OPS) and the Gas Technology Institute (GTI), Des Plaines, IL, have funded a research program to study parameters pertinent to the application of the magnetic flux leakage (MFL) and Nonlinear Harmonics (NLH) technologies to in-line inspection of pipelines. This research was managed by GTI and performed by the Battelle Memorial Institute, Columbus, Ohio (Battelle) and the Southwest Research Institute, San Antonio, Texas, (SwRI).

RSPA/OPS and GTI invite pipeline industry, in-line inspection vendors, pipeline trade association representatives, and the public to a project review meeting. The purpose of the meeting is to present a final report on the progress and findings of the research. The meeting is open to all and no registration is required. The presentations at the meeting will include an overview of the project, a technical review, and the results of technology transfer.

DATES: The meeting will be held on Tuesday, October 28, 2003, from 9 a.m. to 3 p.m.

ADDRESSES: The meeting will be held in conference room 4438-40 at U.S. Department of Transportation, 400-7th Street, SW., Washington, DC 20590. All non-federal personnel must enter the building through the Southwest entrance at 7th and E Streets, SW., and must present a photo-ID to receive a temporary building pass.

FOR FURTHER INFORMATION CONTACT: Gopala (Krishna) Vinjamuri, Agreement Officer's Technical Representative, RSPA/OPS, by phone at (202) 366-4503; by fax at (202) 366-4566; or by e-mail at gopala.vinjamuri@rspa.dot.gov. You may also contact Dr. Albert Teitsma, Program Manager, Gas Technology Institute, by telephone at (847) 768-0974, by fax at (847) 768-0501, or by e-mail at albert.teitsma@gastechnology.org.

Background

This research program began in 1996. The first phase of the MFL technology research (DTRS56-96-C-0010, In-Line Inspection Technologies for Mechanical Damage and Stress Corrosion Cracking (SCC) in Pipelines, was fully funded by RSPA/OPS. Battelle worked with its research partners, SwRI and Iowa State University, to complete this phase of the research. GRI provided technical and project management assistance.

Magnetic flux leakage (MFL) is the most commonly used in-line inspection (ILI) technology for detecting pipe wall corrosion. Until about 1996, the technology was not capable of reliably detecting mechanical damage (gouges and scratches) or long, thin axial defects, both of which are common causes of pipeline failures.

Battelle designed an intelligent MFL in-line inspection tool (“smart pig”) and was responsible for data acquisition and analysis using GRI's Pipeline Safety Simulation Facility (PSF) in Ohio. Natural and fabricated pipe samples with corrosion and other defects were used to evaluate the capabilities of the Battelle device. SwRI conducted mechanical testing and studied the feasibility of non-liner harmonics (NLH) for in-line inspection applications. The Iowa State University researchers attempted to develop a neural network analysis process to analyze MFL signals and determine by trained pattern recognition the extent of metallurgical damage. The 2000 final report on this part of research is available on the OPS Web site, at primis.rspa.dot.gov—click on > Pipeline Safety Research and Development > Recent Projects > R&D Database > Inline Inspection/Pigging and, finally, > In-Line Inspection Technologies for Mechanical Damage and SCC in Pipelines.

To continue this research, RSPA/OPS co-funded an additional $1,180,000 for a 3-year project of advanced research and development. GTI was the program manger, and Battelle and SWRI were the research partners. The project, DTRS656-00-H-0004, Better Understanding of Mechanical Damage, focused on designing a smart pig capable of circumferential (transverse) magnetization for detecting longitudinally oriented cracks, crack-like defects, and mechanical damage defects, particularly gouges. The project scope included the determination of criteria for assessing the relative severity of detected defects and advanced research in NLH tool design and analysis. As the research progressed, additional analyses and testing were identified that added valve to the project.

The tentative agenda for the meeting is as follows.

Welcome—Stacey Gerard

Introduction, History and Achievements—Gopala Vinjamuri

Fit with IMP Rule; Effective Technologies—Keith Leewis

Statistics; Progress in Safety; SOA—Harvey Haines

Mechanical Damage R&D—Harvey Haines

Break

Project Organization and Overview—Albert Teitsma

Battelle R&D MFL for Mechanical Damage—Bruce Nestleroth

SwRI R&D for Nonlinear Harmonics—Al Crouch

Technology Transfer—Alan Dean

Questions and Answers

Lunch

Mechanical Damage Detection/Characterization—Graham Chell, Bruce Nestleroth

Implementation of MFL Decoupling—Alan Dean

Final Questions and Answers

Conclusions—Gopala Vinjamuri

Issued in Washington, DC, on October 3, 2003.
James K. O'Steen,
Deputy Associate Administrator for Pipeline Safety.

[FR Doc. 03-25521 Filed 10-7-03; 8:45 am]

BILLING CODE 4910-60-P